FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later January 6, 2012.

A. Federal Reserve Bank of Richmond (Adam M. Drimer, Assistant Vice President) 701 East Byrd Street, Richmond, Virginia 23261-4528:

1. Mark W. Jaindl, Allentown, Pennsylvania; to acquire voting shares of South Street Financial Corp., and thereby indirectly acquire Home Savings Bank of Albermarle, INC., SSB, both in Albermarle, North Carolina.

B. Federal Reserve Bank of Kansas City (Dennis Denney, Assistant Vice President) 1 Memorial Drive, Kansas City, Missouri 64198-0001:

1. Meredith Williams, Omaha, Nebraska; Luke and Julie Rickertsen, Gothenburg, Nebraska; Matthew H. Williams Family Irrevocable Trust #1; and Matthew H. Williams Family Irrevocable Trust #2; to become part of the family group acting in concert; and Robert M. Williams, Omaha, Nebraska, individually and as Trustee of the Matthew H. Williams Family Irrevocable Trust #1; and Matthew H. Williams Family Irrevocable Trust #2; to acquire control of Williams Financial Corp., and thereby indirectly acquire The Gothenburg State Bank and Trust Company, both in Gothenburg, Nebraska.

December 19, 2011.
Board of Governors of the Federal Reserve System.
Robert deV. Frierson,
Deputy Secretary of the Board.

[FR Doc. 2011-32872 Filed 12-22-11; 8:45 am]

BILLING CODE 6210-01-P